DEPARTMENT OF ENERGY

Federal Energy Regulatory Commission

[Project No. 2735-104]

Pacific Gas and Electric Company; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2735-104.

c. Date Filed: April 18, 2024.

d. Applicant: Pacific Gas and Electric Company (PG&E).

e. Name of Project: Helms Pumped Storage Project.

f. Location: About 50 miles northeast of the city of Fresno, on the North Fork Kings River and Helms Creek, in Fresno and Madera Counties, California. The project occupies 3,346.6 acres of National Forest Service land, 28.36 acres of Bureau of Reclamation land, 0.07 acre of Bureau of Land Management land.

g. Filed Pursuant to: Federal Power Act, 16 U.S.C. 791(a)-825(r).

h. Applicant Contact: Dave Gabbard, Vice President Power Generation, Pacific Gas and Electric Company, 300 Lakeside Drive, Oakland, CA 94612; telephone at (650) 207-9705; email at David.gabbard@pge.com.

i. FERC Contact: Evan Williams, Project Coordinator, West Branch, Division of Hydropower Licensing; telephone at (202) 502-8138; email at Evan.Williams@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 17, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Helms Pumped Storage Project (P-2735-104).

m. The application is not ready for environmental analysis at this time.

n. Project Description: The Helms Pumped Storage Project (project) includes: (1) a 132-foot-long, by 89-foot-wide, by 58.5-foot-high concrete intake-discharge structure (Courtright Intake-Discharge Structure), with metal trash racks, in Courtright Lake; (2) one 4,243-foot-long tunnel (Tunnel 1) composed of two sections: (a) a 3,312-foot-long, 27-foot-diameter concrete-lined section; and (b) a 931-foot-long, 22-foot-diameter steel-lined section; (3) a 32.5-foot-long, by 38-foot-wide, by 45-foot-high gatehouse; (4) a 206-foot-long, 22-foot-diameter, above-ground steel pipe that connects Tunnel 1 and Tunnel 2; (5) one 9,016-foot-long tunnel (Tunnel 2) composed of two sections: (a) a 764-foot-long, 22-foot-diameter steel-lined section; and (b) a 8,252-foot-long, 27-foot-diameter concrete-lined section; (6) a 600-foot-long adit of an unknown diameter, with an adit plug with frame and gate; (7) a 535-foot-high, vertical shaft surge chamber for Tunnel 2 with a 47-foot-diameter lower section and 60-foot-diameter upper section, with 12 feet of the chamber exposed above grade; (8) a 2,205-foot-long penstock composed of three sections: (a) a 1,070-foot-long, 27-foot-diameter concrete-lined section; (b) a 300-foot-long, 27-foot-diameter concrete-lined section; and (c) a 330-foot-long, 27-foot-diameter concrete-lined manifold section, that branches into three, 505-foot-long steel-lined penstocks, that reduce in diameter from 15.5 feet, to 11.5 feet, to 10.5 feet until connecting to the turbine-generator; (9) a 336-foot-long, by 83-foot-wide, by 125-foot-high excavated rock chamber underground powerhouse that includes three, 360-megawatt (MW) vertical Francis-type pump-turbine units, for a total installed capacity of 1,080 MW, and three, vertical indoor generators with an approximate total nameplate capacity of 1,212 MW; (10) a 3,727-foot-long, 27-foot-diameter concrete-lined tunnel (Tunnel 3); (11) a 984-foot-tall, vertical shaft surge chamber for Tunnel 3 with a 27-foot-diameter lower section and a 44-foot-diameter upper section that transitions into a 10-foot-diameter air shaft topped by a 10-foot-tall, 14-foot-diameter protective device above grade; (12) an 88-foot-long, by 78-foot-wide, by 51-foot-high concrete intake-discharge structure (Wishon Intake-Discharge Structure), with metal trash racks, in Lake Wishon; (13) a 220-foot by- 265-foot above ground, fenced switchyard; (14) an underground transformer bank of 10 transformers with a capacity of 150,000 kilo-volt-amperes each; (15) a 3,723-foot-long, 30-foot-wide, 25-foot-high powerhouse access tunnel; and (16) appurtenant facilities.

Although the project facilities do not include any dam or reservoir, PG&E operates the project for power generation using Courtright Lake (upper reservoir) and Lake Wishon (lower reservoir), impounded by Courtright Dam and Wishon Dam, respectively, which are licensed project facilities of the Hass-Kings River Hydroelectric Project (Project No. P-1988). Courtright Lake has a usable storage area of approximately 123,184 acre-feet and normal maximum and minimum water surface elevations of 8,184 feet and 8,050 feet, respectively. Lake Wishon has a usable storage area of approximately 128,606 acre-feet and normal maximum and minimum water surface elevations of 6,550 feet and 6,428.9 feet, respectively. To generate power, water is released from Courtright Lake through the Courtright Intake-Discharge Structure, Tunnel 1, Tunnel 2, and the penstock, into the powerhouse and is discharged through Tunnel 3 and the Wishon Intake-Discharge Structure into Lake Wishon. During periods of low energy demand, water is pumped through these project facilities in reverse (i.e., from Lake Wishon to Courtright Lake).

The project generators are connected to the regional electric grid by: (1) an underground transformer bank of 10 transformers with a capacity of 150,000 kilo-volt-amperes each; (2) a 220-foot by- 265-foot above ground, fenced switchyard; and (3) a 60.7-mile-long, double-circuit 230-kilovolt (kV) transmission line that connects the Helms switchyard to PG&E's interconnection point with the grid at the non-project Gregg Substation. The project also includes an approximately 1.8-mile-long, 21-kV distribution line from the non-project Woodchuck Substation to the Helms Headquarters and Helms Powerhouse and an approximately 2-mile-long, 21-kV distribution line from the non-project Woodchuck Substation to the Helms Support Facility and non-project Wishon Village Recreational Vehicle Park.

The project also includes: (1) the Helms Headquarters facility with ancillary facilities; (2) the Helms Support Facility with ancillary facilities; (3) project recreation facilities including the: (a) Courtright Boat Launch; (b) Trapper Springs Campground; (c) Marmot Rock Campground; (d) Wee-Mee-Kute Fishing Access; (e) Wishon Boat Launch; (f) Lily Pad Campground; (g) Upper Kings River Group Campground; (h) Wishon Dam Fishing Access; (i) Short Hair Creek Fishing Access; (j) Coolidge Meadow Fishing Access; (k) Helms Picnic Area; (l) Upper Kings River Fishing Access, and their ancillary facilities and amenities; (3) an approximately 80-acre Wildlife Habitat Management Area; (4) three, approximately 87-foot-diameter asphalt-surfaced helicopter landing pads; (5) 36.45 miles of non-recreation, vehicular project roads and trails; and (6) 1.08 miles of non-recreation, pedestrian project trails.

In generating mode, each pump-turbine unit has a rated capacity of 3,400 cubic feet per second (cfs), at the design head of 1,625 feet. The maximum hydraulic capacity of the powerhouse in generating mode when all three units are operating at or near full load is 10,500 cfs. In pumping mode, each pump-turbine has a rated capacity of 2,400 cfs at a design head of 1,500 feet, with a total maximum capacity of 7,350 cfs and 7,530 cfs. The average annual energy production of the project from 2015 through 2020 was 736.6 gigawatt-hours.

The current license requires PG&E to maintain water levels as high as possible, to the extent consistent with efficient project operation, in Courtright Lake on weekends during the recreation season for the benefit of recreational use at the lake, and to coordinate operational use of Courtright Lake and Lake Wishon with its Haas-Kings River Hydroelectric Project No. 1988 (Haas-Kings River Project). PG&E currently maintains the surface elevation of the impoundment between 363.5 feet and 364.0 feet BCD, with a normal impoundment elevation of 363.8 feet BCD. PG&E currently coordinates operation of the project with its Haas-Kings River Hydroelectric Project No. 1988 and Balch Hydroelectric Project No. 175.

PG&E proposes to continue operating the project in a manner that is consistent with current operation. Additionally, PG&E proposes the following plans and measures to protect and enhance environmental resources: (1) Recreation Management Plan; (2) Coordination Between P-2735 and P-1988; (3) Biological Resources Management Plan; (4) Hazardous Substance Plan; (5) Ownership of P-2735 and/or P-1988; (6) Visual Resources Management; (7) Fire Management and Response Plan; (8) Transportation System Management; (9) Historic Properties Management Plan; and (10) Supplemental Fish Stocking.

PG&E proposes to modify the existing project boundary to encompass all facilities necessary for operation and maintenance of the project. Conversely, PG&E proposes to modify the boundary to remove lands and facilities from the existing project boundary that are not necessary for operation and maintenance of the project. PG&E proposes to modify the project boundary around the Haas-Kings River Project's Courtright Lake and Lake Wishon to remove land from the boundary around the reservoirs that is not required for project operations and maintenance. PG&E also proposes to modify the project boundary around: Trapper Springs Campground; Marmot Rock Water Pipe Access Road; Lost Canyon Pipe; Lost Canyon Crossing Road; Helms Switchyard; Haas 21-kV distribution line #1; Helms Headquarters, including water tank and water tank access road; Lily Pad Campground; and numerous project access roads and trails. With these proposed changes, the area of PG&E-owned land within the project boundary will decrease to 807.74 acres, and federal lands will decrease to 2,918.42 acres. The area of private lands encompassed by the project boundary will increase to 583.1 acres.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4113). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

q. Procedural Schedule: The application will be processed according to the following preliminary schedule. Revisions to the schedule will be made as appropriate.

Issue Deficiency Letter and Request Additional Information—June 2024

Issue Scoping Document 1 for comments—August 2024

Request Additional Information (if necessary)—September 2024

Issue Acceptance Letter—September 2024

Issue Scoping Document 2 (if necessary)—November 2024

Issue Notice of Ready for Environmental Analysis—November 2024

r. Final amendments to the application must be filed with the Commission no later than 30 days from the issuance date of the notice of ready for environmental analysis.

Dated: May 2, 2024.
Debbie-Anne A. Reese,
Acting Secretary.

[FR Doc. 2024-10039 Filed 5-7-24; 8:45 am]

BILLING CODE 6717-01-P